Title 3—

The President

Proclamation 10927 of May 1, 2025

National Fallen Firefighters Memorial Weekend, 2025

By the President of the United States of America

A Proclamation

Day and night, firefighters are on the front lines, rushing into danger and risking their lives to protect fellow citizens. Tragically, not every hero makes it home. The National Fallen Firefighters Memorial Weekend, held in Emmitsburg, Maryland, commemorates the volunteer and professional firefighters who, over the past year, have sacrificed their lives in the line of duty.

Thousands will gather to honor the lives and legacies of the fallen, to support the Fire Hero Families, to grieve and share memories, and to strengthen bonds between those who uniquely understand both the enduring pride and the profound loss of their loved ones. Across the country, brave men and women demonstrate heroism each day, willingly placing themselves in harm's way for the benefit of others. We are indebted to every American who chooses this noble profession—this solemn calling—in spite of the inherent risks.

There are pivotal moments in American history in which the awe-inspiring bravery and professionalism of firefighters stand forever imprinted on our memory. On September 11, 2001, firefighters rushed into the smoke and flames of the twin towers following the horrific terrorist attacks. In January of this year, firefighters worked tirelessly to contain the fury of the deadly and destructive wildfires that raged through southern California. These phenomenal efforts make us proud and grateful for those who stand in the gap for our safety.

One firefighter will forever hold a profound place in my life—Corey Comperatore, who lost his life shielding his family from the barrage of assassin's bullets that pierced the air during my rally last July in Butler, Pennsylvania. His bravery and selflessness on that fateful day exemplify the dedication and courage that define America's cadre of firefighters.

The First Lady and I are grateful for the devotion of all who serve their communities and our country in this extraordinary way. Firefighters often enter our lives only when something has gone catastrophically wrong, yet they stand ready every day to protect our people and communities. This National Fallen Firefighters Memorial Weekend, we remember the American patriots who gave their lives in service to others, and pray for the courageous families who carry on in their absence.

NOW, THEREFORE, I, DONALD J. TRUMP, President of the United States of America, by virtue of the authority vested in me by the Constitution and the laws of the United States, do hereby proclaim May 3 through May 4, 2025, as National Fallen Firefighters Memorial Weekend. On Sunday, May 4, 2025, in accordance with Public Law 107-51, the flag of the United States will be flown at half-staff at all Federal office buildings in honor of the National Fallen Firefighters Memorial Service.

IN WITNESS WHEREOF, I have hereunto set my hand this first day of May, in the year of our Lord two thousand twenty-five, and of the Independence of the United States of America the two hundred and forty-ninth.

[FR Doc. 2025-08130

Filed 5-6-25; 11:15 am]

Billing code 3395-F4-P